NUCLEAR REGULATORY COMMISSION

Application for a License To Export Radioactive Waste

Pursuant to 10 CFR 110.70(b)(4) “Public notice of receipt of an application,” please take notice that the Nuclear Regulatory Commission has received the following applications for export licenses. Copies of the applications are available electronically through ADAMS and can be accessed through the Public Electronic Reading Room (PERR) link http://www.nrc.gov/NRC/ADAMS/index.htm at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

The information concerning the application follows.

NRC Export License Application
Name of applicant; date of application; date received; application No. | Description of material: Material type | Description of material: Total qty. | Description of material: End use | Country of destination
Framatome ANP, Richland, Inc., January 26, 2001, February 9, 2001, XW005 | Class A—Radioactive waste (slightly contaminated noncombustibles, consisting of glass/metal/slag) | 20 kilograms low enriched uranium (approx. 600 kgs total net weight) | Return of waste material to Germany | Germany.
Framatome ANP, Richland, Inc., January 26, 2001, February 9, 2001, XW006 | Class A—Radioactive waste (contaminated incinerator ash and noncombustibles consisting of metal) | 20 kilograms low enriched uranium (approx. 1500 kgs net weight) | Return of waste material to Germany | Germany.

For the Nuclear Regulatory Commission.
Dated this 4th day of April 2001 at Rockville, Maryland.
Ronald D. Hauber,
Deputy Director, Office of International Programs.

[FR Doc. 01-8887 Filed 4-10-01; 8:45 am]

BILLING CODE 7590-01-P